DEPARTMENT OF TRANSPORTATION

Federal Aviation Administration

14 CFR Part 34

[Docket No. FAA-2023-2434; Amdt. No. 34-7A]

RIN 2120-AL83

Control of Non-Volatile Particulate Matter From Aircraft Engines: Emission Standards and Test Procedures; Correction

AGENCY: Federal Aviation Administration (FAA), U.S. Department of Transportation (DOT).

ACTION: Final rule; request for comments; correction.

SUMMARY: The FAA is correcting a final rule published on April 24, 2024. In that document the FAA adopts standards for measuring non-volatile particulate matter (nvPM) exhaust emissions from aircraft engines. With this rulemaking, the FAA implements the nvPM emissions standards adopted by the Environmental Protection Agency (EPA), allowing manufacturers to certificate engines to the new nvPM emissions standards in the United States and fulfilling the statutory obligations of the FAA under the Clean Air Act. This document corrects errors in the preamble and regulatory text of that document.

DATES: Effective May 24, 2024.

FOR FURTHER INFORMATION CONTACT: For technical questions concerning this action, contact Ralph Iovinelli, Office of Environment and Energy (AEE-300), Federal Aviation Administration, 800 Independence Ave. SW, Washington, DC 20591; telephone (202) 267-3566; email Ralph.Iovinelli@faa.gov.

SUPPLEMENTARY INFORMATION:

Electronic Access and Filing

A copy of the Control of Non-Volatile Particulate Matter From Aircraft Engines: Emission Standards and Test Procedures final rule may be viewed online at www.regulations.gov using the docket number listed above. A copy of this correction will be placed in the same docket. Electronic retrieval help and guidelines are available on the website. It is available 24 hours each day, 365 days each year. An electronic copy of this document may also be downloaded from the Office of the Federal Register's website at www.federalregister.gov and the Government Publishing Office's website at www.govinfo.gov. A copy may also be found at the FAA's Regulations and Policies website at www.faa.gov/regulations_policies.

Copies may also be obtained by sending a request to the Federal Aviation Administration, Office of Rulemaking, ARM-1, 800 Independence Avenue SW, Washington, DC 20591, or by calling (202) 267-9677. Commenters must identify the docket or amendment number of this rulemaking.

All documents the FAA considered in developing this correction, including economic analyses and technical reports, may be accessed in the electronic docket for this rulemaking.

Background

On April 24, 2024, the FAA published a final rule titled “Control of Non-Volatile Particulate Matter From Aircraft Engines: Emission Standards and Test Procedures” (89 FR 31078). That document adopts standards for measuring non-volatile particulate matter nvPM exhaust emissions from aircraft engines. With this rulemaking, the FAA implements the nvPM emissions standards adopted by the EPA, allowing manufacturers to certificate engines to the new nvPM emissions standards in the United States and fulfilling the statutory obligations of the FAA under the Clean Air Act. After publishing the final rule, the FAA became aware that certain information in the preamble and regulatory text sections regarding compliance, were inadvertently omitted. This document corrects errors in the preamble and regulatory text of that document.

Correction

In FR Doc. 2024-08453, beginning on page 31078, in the Federal Register of April 24, 2024, make the following correction(s):

1. On page 31081, in the first column, at the end of the second paragraph of section B, add the sentence “To allow manufacturers with aircraft type certificated between January 1, 2023, and the effective date of this rule to demonstrate compliance with the requirements of part 34 without interruption to their manufacturing or delivery process, manufacturers will have 90 days to comply with this rule after the rule becomes effective.” after the sentence “This date is consistent with the effective date of the EPA final rule that adopted these standards.”

2. On page 31088, in the first column, in amendatory instruction 11 for § 34.25, add paragraph (d) to read as follows:

§ 34.25 [Corrected]

* * * * *

(d) For engines type certificated after January 1, 2023 and prior to May 24, 2024, compliance with this part must be demonstrated no later than August 22, 2024.

Issued under authority provided by 49 U.S.C. 106(f), 44701(a), and 44703 in Washington, DC.
Brandon Roberts,
Executive Director, Office of Rulemaking.

[FR Doc. 2024-09904 Filed 5-2-24; 4:15 pm]

BILLING CODE 4910-13-P